DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). We (U.S. Fish and Wildlife Service) solicit review and comment from local, State, and Federal agencies, and the public on the following permit requests.

DATES: Comments on these permit applications must be received on or before May 8, 2003 to receive our consideration.

ADDRESSES: Written data or comments should be submitted to the Chief, Endangered Species, Ecological Services, U.S. Fish and Wildlife Service, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above (telephone: 503-231-2063). Please refer to the respective permit number for each application when requesting copies of documents.

SUPPLEMENTARY INFORMATION:

Permit No. TE-068803

Applicant: Jerry Lynn Kinser, Conroe, Texas.

The applicant requests a permit to purchase, in interstate commerce, one female and one male captive bred Hawaiian (=nene) goose (Branta [=Nesochen] sandvicensis) for the purpose of enhancing its propagation and survival. This notification covers activities conducted by the applicant over the next 5 years.

Permit No. TE-039800

Applicant: Kathy Williams, San Diego, California.

The permittee requests an amendment to take (survey by pursuit) the Quino checkerspot butterfly (Euphydryas editha quino) in conjunction with surveys throughout the range of the species in California for the purpose of enhancing its survival.

Permit No. TE-068799

Applicant: Mikael Romich, San Bernardino, California.

The applicant requests a permit to take (harass by survey and locate and monitor nests) the southwestern willow flycatcher (Empidonax traillii extimus) in conjunction with surveys and nest monitoring in San Bernardino, Riverside, Los Angeles, Orange, and San Diego Counties, California for the purpose of enhancing its survival.

Permit No. TE-022630

Applicant: U.S. Geological Survey, Las Vegas, Nevada.

The permittee requests an amendment to collect/reduce to possession Astragalus jaegerianus (Lane Mountain milk-vetch) in conjunction with research in San Bernardino County, California for the purpose of enhancing its survival.

Permit No. TE-069171

Applicant: Santa Monica Mountains National Recreation Area, Thousand Oaks, California.

The applicant requests a permit to collect/reduce to possession Pentachaeta lyonii (Lyon's pentachaeta) in conjunction with seed collection and propagation in Ventura County, California for the purpose of enhancing its survival.

Permit No. TE-839480

Applicant: Richard Zembal, Laguna Hills, California.

The permittee requests an amendment to take (harass by survey) the Stephen's kangaroo rat (Dipodomys stephensi) and the San Bernardino kangaroo rat (Dipodomys merriami parvus) in conjunction with surveys in San Bernardino, Riverside, and Orange Counties, California for the purpose of enhancing their survival.

Permit No. TE-799568

Applicant: Dana Kamada, San Clemente, California.

The permittee requests an amendment to take (harass by survey) the Conservancy fairy shrimp (Branchinecta conservatio), the longhorn fairy shrimp (Branchinecta longiantenna), the Riverside fairy shrimp (Streptocephalus wootoni), the San Diego fairy shrimp (Branchinecta sandiegonensis ), and the vernal pool tadpole shrimp (Lepidurus packardi) in conjunction with surveys throughout the range of each species in California for the purpose of enhancing their survival.

Permit No. TE-821404

Applicant: Doug Willick, Orange, California.

The permittee requests an amendment to take (monitor nests) the least Bell's vireo (Vireo bellii pusillus) in conjunction with surveys and nest monitoring in Ventura County, California for the purpose of enhancing its survival.

Permit No. TE-069321

Applicant: Department of the Army—Fort Hunter Liggett, Fort Hunter Liggett, California.

The applicant requests a permit to take (capture, band, and release) the least Bell's vireo (Vireo bellii pusillus) and the southwestern willow flycatcher (Empidonax traillii extimus) in conjunction with mist-netting surveys in Ventura County, California for the purpose of enhancing their survival.

Permit No. TE-837309

Applicant: Michael Misenhelter, Norco, California.

The permittee requests an amendment to take (survey by pursuit) the Quino checkerspot butterfly (Euphydryas editha quino) in conjunction with surveys throughout the range of the species in California for the purpose of enhancing its survival.

Permit No. TE-069534

Applicant: Victor Novik, San Diego, California.

The applicant requests a permit to take (harass by survey) the Riverside fairy shrimp (Streptocephalus wootoni) and the San Diego fairy shrimp (Branchinecta sandiegonensis), and to take (survey by pursuit) the Quino checkerspot butterfly (Euphydryas editha quino) in conjunction with surveys in San Diego, Imperial, Orange, Riverside, and Ventura Counties, California for the purpose of enhancing their survival.

Permit No. TE-067291

Applicant: Barry Roth, San Francisco, California.

The applicant requests a permit to take (survey, collect, and sacrifice) the Morro shoulderband snail (Helminthoglypta walkeriana) in conjunction with taxonomic and classification studies throughout the range of the species in California for the purpose of enhancing its survival.

We solicit public review and comment on each of these recovery permit applications.

Dated: March 28, 2003.
Daniel H. Diggs,
Acting Regional Director, Region 1, U.S. Fish and Wildlife Service.

[FR Doc. 03-8487 Filed 4-7-03; 8:45 am]

BILLING CODE 4310-55-P